FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 1, 2000.

A. Federal Reserve Bank of Kansas City (D. Michael Manies, Assistant Vice President) 925 Grand Avenue, Kansas City, Missouri 64198-0001:

1. Richard Dean Goppert, as Trustee of the Revocable Inter Vivos Trust Agreement of Richard D. Goppert, Kansas City, Missouri; to acquire voting shares of Kansas Agencies & Investments, Inc., Overland Park, Kansas, and thereby indirectly acquire voting shares of Garnett State Savings Bank, Garnett, Kansas.

Board of Governors of the Federal Reserve System, April 11, 2000.
Robert deV. Frierson,
Associate Secretary of the Board.

[FR Doc. 00-9453 Filed 4-14-00; 8:45 am]

BILLING CODE 6210-01-P